NATIONAL AERONAUTICS AND SPACE ADMINISTRATION

[Notice (04-007)]

U.S. Centennial of Flight Commission.

AGENCY: National Aeronautics and Space Administration.

ACTION: Notice of meeting.

SUMMARY: In accordance with the Federal Advisory Committee Act, Pub. L. 92-463, as amended, the National Aeronautics and Space Administration announces a joint meeting of the U.S. Centennial of Flight Commission and the First Flight Centennial Federal Advisory Board.

DATES: Friday, February 6, 2004, 1 p.m. to 4 p.m.

ADDRESSES: National Aeronautics and Space Administration, 300 E Street, SW., Room 9H40 (PRC), Washington, DC 20546.

FOR FURTHER INFORMATION CONTACT: Ms. Beverly Farmarco, Code IC, National Aeronautics and Space Administration, Washington, DC 20546, 202/358-1903.

SUPPLEMENTARY INFORMATION: The meeting will be open to the public up to the seating capacity of the room. The agenda for the meeting is as follows:

—Opening Remarks

—Roundtable Discussion of the Past Year's Events

—Carter Ryley Thomas Update

—NASA Update

—North Carolina Update

—Experimental Aircraft Association Update

—The Wright Experience Update

—Closing Comments

Attendees will be requested to sign a register and to comply with NASA security requirements, including the presentation of a valid picture ID, before receiving an access badge. Foreign nationals attending this meeting will be required to provide the following information: Full name; gender; date/place of birth; citizenship; visa/green card information (number, type, expiration date); employer/affiliation information (name of institution, address, county, phone); and title/position of attendee. To expedite admittance, attendees can provide identifying information in advance by contacting Ms. Beverly Farmarco via e-mail at beverly.j.farmarco@nasa.gov or by telephone at (202) 358-1903. Persons with disabilities who require assistance should indicate this.

It is imperative that the meeting be held on this date to accommodate the scheduling priorities of the key participant.

Michael F. O'Brien,
Assistant Administrator for External Relations, National Aeronautics and Space Administration.

[FR Doc. 04-1229 Filed 1-20-04; 8:45 am]

BILLING CODE 7510-01-P